DEPARTMENT OF HOMELAND SECURITY

Coast Guard

33 CFR Part 117

[Docket No. USCG-2013-0236]

Drawbridge Operation Regulations; Taunton River, Fall River and Somerset, MA

AGENCY: Coast Guard, DHS.

ACTION: Notice of temporary deviation from regulation.

SUMMARY: The Coast Guard is issuing a temporary deviation from the regulation governing the operation of the Brightman Street Bridge across the Taunton River, mile 1.8, between Fall River and Somerset, Massachusetts. The deviation is necessary to facilitate power equipment upgrades. During this temporary deviation, the bridge may remain in the closed position for five hours.

DATES: This deviation is effective from 4:30 p.m. until 9:30 p.m. on April 16, 2013.

ADDRESSES: The docket for this deviation, [USCG-2013-0236] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Mr. John McDonald, Project Officer, First Coast Guard District, john.w.mcdonald@uscg.mil, or (617) 223-8364. If you have questions on viewing the docket, call Barbara Hairston, Program Manager, Docket Operations, telephone 202-366-9826.

SUPPLEMENTARY INFORMATION: The Brightman Street Bridge has a vertical clearance of 27 feet at mean high water and 31 feet at mean low water in the closed position. Currently, in accordance with 33 CFR 117.619, the draw opens on signal between 5 a.m. and 9 p.m. From 9 p.m. until 5 a.m. the draw opens on signal with at least one hour advance notice.

The bridge owner, Massachusetts Department of Transportation, requested a five hour closure to facilitate electrical upgrades by the local power company, National Grid.

Under this temporary deviation the Brightman Street Bridge may remain in the closed position from 4:30 p.m. until 9:30 p.m. on April 16, 2013.

The Taunton River is a recreational waterway. The bridge rarely opens during the time period this temporary deviation will be in effect.

In accordance with 33 CFR 117.35(e), the bridge must return to its regular operating schedule immediately at the end of the designated repair period. This deviation from the operating regulations is authorized under 33 CFR 117.35.

Dated: April 4, 2013.
Gary Kassof,
Bridge Program Manager, First Coast Guard District.

[FR Doc. 2013-08843 Filed 4-15-13; 8:45 am]

BILLING CODE 9110-04-P